DEPARTMENT OF TRANSPORTATION

Federal Aviation Administration

RTCA Special Committee 200: Modular Avionics (MA)/EUROCAE WG-60

AGENCY: Federal Aviation Administration (FAA), DOT.

ACTION: Notice of RTCA Special Committee 200 meeting.

SUMMARY: The FAA is issuing this notice to advise the public of a meeting of RTCA Special Committee 200: Modular Avionics.

DATES: The meeting will be held on March 2-5, 2003, from 9 a.m. to 5 p.m.

ADDRESSES: The meeting will be held at Hilton Melbourne Beach Hotel, Melbourne, Florida.

FOR FURTHER INFORMATION CONTACT: (1) RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 200 meeting. The agenda will include:

• March 2:

• Subgroup 1-3 Meetings

• March 3:

• Opening Session (Welcome, Introductory and Administrative Remarks, Review Agenda, Review Summary of Previous Meeting)

• Review action items

• Brief status of Action Items

• Brief status of work of Subgroups 1-3

• Review and disposition comments on the current draft of the Final Report

• March 4:

• Subgroups 1-3 Meetings

• March 5:

• Report of Subgroup Meetings

• Review Action Items

• Plan Editorial Committee Meeting

• Establish Work Plan

• Closing Session (Make Assignments, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 11, 2004.
Robert Zoldos,
FAA Systems Engineer, RTCA Advisory Committee.

[FR Doc. 04-4197 Filed 2-24-04; 8:45 am]

BILLING CODE 4910-13-M